DEPARTMENT OF LABOR

Employment and Training Administration

[TA-W-54,692]

The Bank of New York, New York, NY; Dismissal of Application for Reconsideration

Pursuant to 29 CFR 90.18(C) an application for administrative reconsideration was filed with the Director of the Division of Trade Adjustment Assistance for workers at the Bank of New York, New York, New York. The application contained no new substantial information which would bear importantly on the Department's determination. Therefore, dismissal of the application was issued.

TA-W-54,692; the Bank of New York, New York, New York (June 30, 2004).

Signed in Washington, DC this 30th day of June 2004.
Timothy Sullivan,
Director, Division of Trade Adjustment Assistance.

[FR Doc. 04-15311 Filed 7-6-04; 8:45 am]

BILLING CODE 4510-30-P